ENVIRONMENTAL PROTECTION AGENCY

40 CFR Part 52

[GA-043-1-9905a; and GA-045-1-9906a; FRL-6528-9]

Approval and Promulgation of Implementation Plans Georgia: Approval of Revisions to Enhanced Inspection and Maintenance Portion

AGENCY: Environmental Protection Agency (EPA).

ACTION: Direct final rule.

SUMMARY: The EPA is approving the State Implementation Plan (SIP) revisions submitted, in two separate packages, by the State of Georgia in November and December of 1998. Both submittals request revisions to the enhanced Inspection and Maintenance (I/M) program, in accordance with the requirements of Section 110 of the Clean Air Act as amended in 1990 (CAA) and section 348 of the National Highway Systems Designation Act (NHSDA). In total, these submittals request revisions to modify the following sections: “Emission Inspection Procedures,” “Inspection Station Requirements,” “Certificate of Emissions Inspection,” “Definitions,” “Waivers,” “Inspection Fees,” and the “Accelerated Simulated Mode (ASM) Start-up Standards” found in Appendix H of the Enhanced I/M Test Equipment, Procedures, and Specifications—Phase II.

DATES: This direct final rule is effective March 27, 2000 without further notice, unless EPA receives adverse comment by February 25, 2000. If adverse comment is received, EPA will publish a timely withdrawal of the direct final rule in the Federal Register and inform the public that the rule will not take effect.

ADDRESSES: All comments should be addressed to: Dale Aspy (November 1998 submittal) or Lynorae Benjamin (December 1998 submittal) at the EPA, Region 4 Air Planning Branch, 61 Forsyth Street, SW, Atlanta, Georgia 30303.

Copies of the state submittals are available at the following addresses for inspection during normal business hours: Air and Radiation Docket and Information Center, U.S. Environmental Protection Agency, 401 M Street, SW, Washington, DC 20460.

Environmental Protection Agency, Region 4, Air Planning Branch, 61 Forsyth Street, SW, Atlanta, Georgia 30303-8960. Dale Aspy, 404/562-9041; Lynorae Benjamin, 404/562-9040.

Georgia Department of Natural Resources, Environmental Protection Division, Air Protection Branch, 4244 International Parkway, Suite 1220, Atlanta, Georgia 30354. 404/363-7000.

FOR FURTHER INFORMATION CONTACT: Dale Aspy at 404/562-9041 or Lynorae Benjamin at 404/562-9040.

SUPPLEMENTARY INFORMATION: The following sections: Background, Analysis of the State's Submittal, and Final Action, provide additional information concerning the revisions to the enhanced I/M portion of the Georgia SIP.

I. Background

On December 13, 1996 (61 FR 65496), EPA published a notice of proposed rulemaking (NPR) for the State of Georgia. The NPR proposed conditional interim approval of Georgia's enhanced I/M program, for the Atlanta ozone nonattainment area, submitted to satisfy the applicable requirements of both the CAA and the NHSDA. The formal SIP revision, submitted on March 27, 1996, by the Georgia Environmental Protection Division (EPD) of the Department of Natural Resources, contained plans to implement the program in two phases. The plan for Phase 1 described how the program would be expanded from the four counties in the previous program to the 13 ozone nonattainment counties. Phase 1 implemented a two speed idle (TSI) test and a gas cap pressure check for all vehicles that were subject to an emissions inspection. The implementation of Phase 2 required an ASM test for vehicles older than six model years, while newer vehicles continued to be subject to the TSI test. Phase 2 also implemented minor changes in software. The program was conditionally approved because it lacked ASM test method specifications and a requirement to implement the program in a timely manner. Subsequently, on January 31, 1997, the EPD submitted the necessary ASM test method, satisfying one of the conditions for program approval. These specifications were largely based upon EPA's specifications for the ASM test. Therefore, on August 11, 1997 (62 FR 42916) EPA noted the test specifications condition of the December 13, 1996, proposal was met and removed, and final interim approval was given to the program.

Additional detailed discussion of the Georgia enhanced I/M SIP and the rationale for EPA's action are explained in the proposal notice published December 13, 1996, reference above and in the final interim approval notice published on August 11, 1997 (62 FR 42916), and will not be restated here.

II. Analysis of State's Submittal

On November 4, 1998, EPD submitted a revision to the SIP that modified portions of the enhanced I/M program. Specifically, the submission deleted emergency rules contained in the “Emission Inspection Procedures,” and the “Inspection Station Requirements” for the Georgia I/M regulation. These emergency rules were adopted when the ASM portion of the program could not be implemented on schedule due to delays in the delivery of hardware and software. The emergency rules allowed stations to check vehicle emissions on the TSI through December 1, 1998. However, the required hardware and software were delivered prior to the expected date, allowing ASM testing to start earlier than anticipated. Additionally, the “Certificate of Emissions Inspection” was changed to require a telephone number for tracking purposes. The details of the modifications requested in the November 1998 submittal are discussed below.

Emission Inspection Procedures

Paragraph 7 in the Emission Inspection Procedures (Georgia Rule 391-3-20-.04) is deleted entirely, removing the provision that allowed older vehicles to be tested with the TSI procedure.

Inspection Station Requirements

Sections (1)(a)(3) and (1)(c)(3) are deleted from Georgia Rule 391-3-20-.09, thereby removing the provisions that allowed certain newer vehicle only inspection stations or fleet inspection stations to test older vehicles with the TSI procedure.

Certificate of Emissions Inspection

A new subparagraph (2)(b) of Georgia Rule 391-3-20-.13 completely replaces the former subparagraph, requiring a telephone number in addition to the other information previously required on the repair information form.

On December 4, 1998, the EPD submitted additional revisions to the SIP to modify portions of the enhanced I/M program. Specifically, the submission updates the I/M Test Manual definition so that it refers to the version of the Enhanced I/M Test Equipment, Procedures and Specifications—Phase II dated September 10, 1998; extends the $200 waiver expenditure requirement through December 31, 1999; and extends the $25.00 fixed test fee and the issuing of an administrative fee credit of $6.30 to an inspection station owner for each ASM test performed through June 30, 1999. The details of the modifications requested in the December 1998 submittal are discussed below.

Definitions

The State updated the I/M Test Manual definition so that it refers to the most recent version of the Enhanced I/M Test Equipment, Procedures and Specifications—Phase II dated September 10, 1998.

Waivers

The revision extended the $200 waiver expenditure requirement through December 31, 1999. This extension reflects a change in EPA's policy which will mandate the $450 wavier amount (plus an increase for inflation) to be implemented after January 1, 2000. EPA is approving the State's request to extend the deadline for the full implementation of the cost waiver including the CPI adjustment until January 1, 2000. This allows the State to complete one full cycle of testing with the $200 cost waiver and also allows the State to complete a full cycle of testing with the full $450 plus the annual CPI adjustment made retroactively to 1989 cost waiver before January 1, 2002, which is the performance standard modeling evaluation date. EPA believes, that consistent with its interpretation that the start dates and evaluation dates have been extended by approximately two years by the NHSDA, the full implementation of the waiver can also be extended by two years.

Inspection Fees

The revision extended the $25.00 fixed test fee and the issuing of an administrative fee credit of $6.30 to an inspection station owner for each ASM test performed through June 30, 1999.

ASM-Start-Up

The revision delayed implementation of the final emissions standards for the dynamometer tests through December 31, 1999. This allows one year of ASM testing at the phase in cut points. The delay in implementing the final ASM standards was caused by the delay in starting Phase 2, the ASM portion, of the Georgia I/M program due to ASM hardware and software delivery problems.

III. Final Action

EPA is approving the aforementioned changes to the SIP. The Agency has reviewed this request for revisions of the Federally approved SIP for conformance with provisions of the CAA and EPA guidance and has determined that these requests conform to those requirements. Therefore, this action revises the State's enhanced I/M program as presented in the Analysis of State's Submittal section of this document.

The EPA is publishing this rule without prior proposal because the Agency views these as noncontroversial submittals and anticipates no adverse comments. However, in the proposed rules section of this Federal Register publication, EPA is publishing a separate document that will serve as the proposal to approve the SIP revisions should adverse comments be filed. This rule will be effective March 27, 2000 without further notice unless the Agency receives adverse comments by February 25, 2000.

If the EPA receives such comments, then EPA will publish a document withdrawing the final rule and informing the public that the rule will not take effect. All public comments received will then be addressed in a subsequent final rule based on the proposed rule. The EPA will not institute a second comment period. Parties interested in commenting should do so at this time. If no such comments are received, the public is advised that this rule will be effective on March 27, 2000 and no further action will be taken on the proposed rule.

IV. Administrative Requirements

A. Executive Order 12866

The Office of Management and Budget has exempted this regulatory action from review under Executive Order (E.O.) 12866, entitled “Regulatory Planning and Review.”

B. Executive Order 13132

Federalism (64 FR 43255, August 10, 1999) revokes and replaces E.O. 12612 (Federalism) and E.O. 12875 (Enhancing the Intergovernmental Partnership). E.O. 13132 requires EPA to develop an accountable process to ensure “meaningful and timely input by State and local officials in the development of regulatory policies that have federalism implications.” “Policies that have federalism implications” is defined in the E.O. to include regulations that have “substantial direct effects on the States, on the relationship between the national government and the States, or on the distribution of power and responsibilities among the various levels of government.” Under E.O. 13132, EPA may not issue a regulation that has federalism implications, that imposes substantial direct compliance costs, and that is not required by statute, unless the Federal government provides the funds necessary to pay the direct compliance costs incurred by State and local governments, or EPA consults with State and local officials early in the process of developing the proposed regulation. EPA also may not issue a regulation that has federalism implications and that preempts State law unless the Agency consults with State and local officials early in the process of developing the proposed regulation.

This final rule will not have substantial direct effects on the States, on the relationship between the national government and the States, or on the distribution of power and responsibilities among the various levels of government, as specified in E.O. 13132. Thus, the requirements of section 6 of the E.O. do not apply to this rule.

C. Executive Order 13045

Protection of Children from Environmental Health Risks and Safety Risks (62 FR 19885, April 23, 1997), applies to any rule that: (1) Is determined to be “economically significant” as defined under E.O. 12866, and (2) concerns an environmental health or safety risk that EPA has reason to believe may have a disproportionate effect on children. If the regulatory action meets both criteria, the Agency must evaluate the environmental health or safety effects of the planned rule on children, and explain why the planned regulation is preferable to other potentially effective and reasonably feasible alternatives considered by the Agency.

This rule is not subject to E.O. 13045 because it does not involve decisions intended to mitigate environmental health or safety risks.

D. Executive Order 13084

Under E.O. 13084, EPA may not issue a regulation that is not required by statute, that significantly affects or uniquely affects the communities of Indian tribal governments, and that imposes substantial direct compliance costs on those communities, unless the Federal government provides the funds necessary to pay the direct compliance costs incurred by the tribal governments. If the mandate is unfunded, EPA must provide to the Office of Management and Budget, in a separately identified section of the preamble to the rule, a description of the extent of EPA's prior consultation with representatives of affected tribal governments, a summary of the nature of their concerns, and a statement supporting the need to issue the regulation.

In addition, E.O. 13084 requires EPA to develop an effective process permitting elected and other representatives of Indian tribal governments “to provide meaningful and timely input in the development of regulatory policies on matters that significantly or uniquely affect their communities.” Today's rule does not significantly or uniquely affect the communities of Indian tribal governments. Accordingly, the requirements of section 3(b) of E.O. 13084 do not apply to this rule.

E. Regulatory Flexibility

The Regulatory Flexibility Act generally requires an agency to conduct a regulatory flexibility analysis of any rule subject to notice and comment rulemaking requirements unless the agency certifies that the rule will not have a significant economic impact on a substantial number of small entities. Small entities include small businesses, small not-for-profit enterprises, and small government jurisdictions.

This final rule will not have a significant impact on a substantial number of small entities because SIP approvals under section 110 and subchapter I, part D of the CAA do not create any new requirements but simply approve requirements that the State is already imposing. Therefore, because the Federal SIP approval does not create any new requirements, I certify that this action will not have a significant economic impact on a substantial number of small entities.

Moreover, due to the nature of the Federal-State relationship under the CAA, preparation of a flexibility analysis would constitute Federal inquiry into the economic reasonableness of state action. The CAA forbids EPA to base its actions concerning SIPs on such grounds. Union Electric Co. v. U.S. EPA, 427 U.S. 246, 255-66 (1976); 42 U.S.C. 7410(a)(2).

F. Unfunded Mandates

Under Section 202 of the Unfunded Mandates Reform Act of 1995 (“Unfunded Mandates Act”), signed into law on March 22, 1995, EPA must prepare a budgetary impact statement to accompany any proposed or final rule that includes a Federal mandate that may result in estimated costs to State, local, or tribal governments in the aggregate; or to private sector, of $100 million or more. Under Section 205, EPA must select the most cost-effective and least burdensome alternative that achieves the objectives of the rule and is consistent with statutory requirements. Section 203 requires EPA to establish a plan for informing and advising any small governments that may be significantly or uniquely impacted by the rule.

EPA has determined that the approval action promulgated does not include a Federal mandate that may result in estimated costs of $100 million or more to either State, local, or tribal governments in the aggregate, or to the private sector. This Federal action approves pre-existing requirements under State or local law, and imposes no new requirements. Accordingly, no additional costs to State, local, or tribal governments, or to the private sector, result from this action.

G. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. This rule is not a “major rule” as defined by 5 U.S.C. 804(2).

H. National Technology Transfer and Advancement Act

Section 12 of the National Technology Transfer and Advancement Act (NTTAA) of 1995 requires Federal agencies to evaluate existing technical standards when developing a new regulation. To comply with NTTAA, EPA must consider and use “voluntary consensus standards” (VCS) if available and applicable when developing programs and policies unless doing so would be inconsistent with applicable law or otherwise impractical.

The EPA believes that VCS are inapplicable to this action. Today's action does not require the public to perform activities conducive to the use of VCS.

I. Petitions for Judicial Review

Under section 307(b)(1) of the CAA, petitions for judicial review of this action must be filed in the United States Court of Appeals for the appropriate circuit by March 27, 2000. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Air pollution control, Carbon monoxide, Hydrocarbons, Intergovernmental relations, Ozone, Reporting and recordkeeping requirements.

Dated: January 5, 2000.
A. Stanley Meiburg,
Acting Regional Administrator, Region 4.

Part 52 of chapter I, title 40, Code of Federal Regulations, is amended as follows:

PART 52—[AMENDED]

1. The authority citation for part 52 continues to read as follows:

Authority: 42.U.S.C. 7401 et seq.

Subpart L—Georgia

2. In § 52.570(c), the table is amended by revising the entry for 391-3-20 to read as follows:

§ 52.570 Identification of plan.

* * * * *

(c) * * *

EPA-Approved Georgia Regulations
State citation | Title/subject | State effective date | EPA approval date | Explanation
* * * * * * *
391-3-20 | Enhanced Inspection and Maintenance | November 12, 1998 | March 27, 2000
* * * * * * *

[FR Doc. 00-1834 Filed 1-25-00; 8:45 am]

BILLING CODE 6560-50-P